ENVIRONMENTAL PROTECTION AGENCY

[FRL-6867-8]

Notice of Seventh Meeting of the Mississippi River/Gulf of Mexico Watershed Nutrient Task Force

AGENCY: Environmental Protection Agency (EPA).

ACTION: Notice; announcement meeting.

SUMMARY: This notice announces the Seventh Meeting of the Mississippi River/Gulf of Mexico Watershed Nutrient Task Force. The Task Force, which includes Federal, State, and Tribal members, is promoting efforts throughout the Mississippi River Basin to reduce the frequency, duration, and size of the hypoxic zone in the Northern Gulf of Mexico. The major purpose of this meeting is to consider the comments received on the draft Action Plan, published in the Federal Register on July 11, 2000 (65 FR 42690) and the implications for the final Plan. This Action Plan is required by section 604(b) of the Harmful Algal Blooms and Hypoxia Research Control Act (Public Law 105-383—Coast Guard Authorization Act of 1998). The public will be afforded an opportunity to provide input to the Task Force during open discussion periods. The room accommodates approximately 125 people. Those who plan to make a statement are asked to indicate their intention to Dr. Belefski (Contact Information below).

DATES: The meeting will be held at 8 a.m.-5 p.m., October 11, 2000.

ADDRESSES: The meeting will be held at the Baton Rouge Hilton Hotel, 5500 Hilton Avenue, Baton Rouge, LA; 1 (800) 445-8667 or (225) 924-5000.

FOR FURTHER INFORMATION CONTACT: Dr. Mary Belefski, U.S. EPA, Assessment and Watershed Protection Division (AWPD), Mail Code 4503F,1200 Pennsylvania Avenue, NW., Washington, DC 20460, telephone (202)-260-7061; Internet: belefski.mary@epa.gov. For additional information on hotel accommodations contact Marquietta Davis, Tetra Tech, Inc., 10306 Eaton Place, Suite 340, Fairfax, Virginia 22030, telephone: (703) 385-6000; Internet:davisma@tetratech-ffx.com

Dated: September 1, 2000.
David G. Davis,
Acting Director, Office of Wetlands, Oceans, and Watersheds.

[FR Doc. 00-23240 Filed 9-8-00; 8:45 am]

BILLING CODE 6560-50-P